DEPARTMENT OF THE INTERIOR

Bureau of Land Management

[LLNV952000-09-L14200000-BJ0000; 09-08807; TAS: 14X1109]

Filing of Plats of Survey; NV

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plats of Survey of the following described lands will be officially filed at the Nevada State Office, Reno, Nevada, on the first business day after thirty (30) days from the publication of this notice:

The plat, in five (5) sheets, representing the dependent resurvey of a portion of the north boundary of Township 12 North, Range 27 East; the west boundary of Township 13 North, Range 28 East; a portion of the subdivisional lines of Township 13 North, Range 27 East; and portions of certain mineral surveys in Townships 13 North, Ranges 27 and 28 East, and the survey of a portion of the subdivisional lines, and the subdivision of certain sections, Township 13 North, Range 27 East, Mount Diablo Meridian, Nevada, under Group No. 855, was accepted July 14, 2009.

This survey was executed to meet certain administrative needs of the Walker River Paiute Tribe and the Bureau of Indian Affairs.

The plat, representing the survey of the east boundary of Township 1 North, Range 38 East, Mount Diablo Meridian, Nevada, under Group No. 861, was accepted July 22, 2009. The plat, in two (2) sheets, representing the dependent resurvey of the Mount Diablo Base Line through portions of Ranges 38 and 39 East, and a portion of Mineral Survey No. 3331, and the survey of the north and east boundaries and a portion of the subdivisional lines of Township 1 North, Range 38½ East, Mount Diablo Meridian, Nevada, under Group No. 861, was accepted July 22, 2009.

The plat, representing the dependent resurvey of the Mount Diablo Base Line through a portion of Range 39 East and the survey of a portion of the subdivisional lines of Township 1 North, Range 39 East, Mount Diablo Meridian, Nevada, under Group No. 861, was accepted July 22, 2009.

These surveys were executed to meet certain administrative needs of Rulco, LLC, and the Bureau of Land Management.

2. Subject to valid existing rights, the provisions of existing withdrawals and classifications, the requirement of applicable laws, and other segregations of record, these lands are open to application, petition and disposal, including application under the mineral leasing laws. All such valid applications received on or before the official filing of the Plats of Survey described in paragraph 1, shall be considered as simultaneously filed at that time. Applications received thereafter shall be considered in order of filing.

3. The above-listed surveys are now the basic record for describing the lands for all authorized purposes. These surveys have been placed in the open files in the BLM Nevada State Office and are available to the public as a matter of information. Copies of the surveys and related field notes may be furnished to the public upon payment of the appropriate fees.

Dated: July 28, 2009.
David D. Morlan,
Chief Cadastral Surveyor, Nevada.

[FR Doc. E9-19062 Filed 8-7-09; 8:45 am]

BILLING CODE 4310-HC-P